DEPARTMENT OF EDUCATION

Grants to States To Improve Management of Drug and Violence Prevention Programs

AGENCY: Office of Safe and Drug-Free Schools, Department of Education.

ACTION: Notice of final priorities and requirements.

SUMMARY: The Assistant Deputy Secretary for Safe and Drug-Free Schools announces priorities and requirements under the Safe and Drug-Free Schools and Communities Act (SDFSCA) National Programs for Grants to States to Improve Management of Drug and Violence Prevention Programs. We may use one or more of these priorities and requirements for competitions in fiscal year (FY) 2005 and later years. We take this action to focus Federal financial assistance on an identified national need. We intend the priorities and requirements to facilitate the development, enhancement, or expansion of the capacity of States and other entities that receive SDFSCA State Grants program funds to collect, analyze, and use data to improve the management of drug and violence prevention programs.

DATES: Effective Date: These priorities and requirements are effective July 13, 2005.

FOR FURTHER INFORMATION CONTACT: Maria Worthen, U.S. Department of Education, 400 Maryland Avenue, SW., room 3E234, Washington, DC 20202-6450. Telephone: (202) 205-5632 or via Internet: maria.worthen@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: States and their local communities are implementing a variety of programs, activities, and strategies designed to prevent youth drug use and violence in schools. Just as policymakers, education professionals, and parents seek reliable information about student academic progress, stakeholders also need sufficient information and data to assess the nature of youth drug and violence prevention problems in their communities, select research-based approaches to preventing these problems, and determine whether these prevention efforts are successful.

The U.S. Department of Education currently requires States to collect and report data on youth drug and violence prevention problems and prevention efforts through a uniform management information and reporting system (UMIRS) that States must establish under section 4112(c)(3) of the Elementary and Secondary Education Act of 1965, as amended by the No Child Left Behind Act of 2001 (ESEA) (20 U.S.C. 7112(c)(3)). States also need to use objective data about school safety to meet the Unsafe School Choice Option (USCO) requirements in section 9532 of the ESEA.

States and local communities face several challenges in implementing these requirements and, in turn, operating and managing effective drug and violence prevention programs. These challenges may include:

• Lack of standardized collection instruments and definitions both within and across States;

• Lack of expertise related to collecting data about youth drug use and violence;

• Lack of time and other resources to support high-quality data collection and analysis in these areas;

• Unfavorable community and media reaction to high rates of youth drug use and violence that discourages full and accurate reporting; and

• Negative consequences for administrators whose schools have high rates of drug use or violent incidents.

The Department proposed the priorities and requirements announced in this notice to provide support to States to explore strategies that help them address each of these challenges so that they can enhance their capacity to collect and use data to assess and improve implementation of their drug and violence prevention programs.

We published a notice of proposed priorities and requirements for this program in the Federal Register on March 9, 2005 (70 FR 11623).

Except for minor technical revisions, and a change to the requirements described in the Analysis of Comments and Changes section, there are no differences between the notice of proposed priorities and requirements and this notice of final priorities and requirements.

Analysis of Comments and Changes

In response to our invitation in the notice of proposed priorities and requirements, three parties submitted comments on the proposed priorities and requirements. An analysis of the comments and of any changes in the priorities and requirements since publication of the notice of proposed priorities and requirements follows.

Generally, we do not address technical and other minor changes or any suggested changes that the Secretary is not authorized to make under the applicable statutory authority.

Comment: One commenter recommended that Federal agencies, including the U.S. Department of Education and the Substance Abuse and Mental Health Services Administration (SAMHSA) in the U.S. Department of Health and Human Services, that share common program goals should develop a common set of outcome measures for drug and violence prevention programs that could be used by all Federal agencies that implement these programs.

Discussion: While we find merit in the commenter's suggestion and are working with other Federal agencies, including SAMHSA, on the issue of common outcome measures, we believe that the recommendation is beyond the scope of this program. The Grants to States to Improve Management of Drug and Violence Prevention Programs initiative is specifically designed to help States meet the UMIRS requirements. These provisions require each State to develop an information management and reporting system for its schools and communities and to define alcohol and drug-related offenses in a manner consistent with each State's criminal code. While common outcome measures are a desirable goal, we do not believe that we can mandate specific outcome measures that would apply to all States or to all Federal agencies implementing drug and violence prevention programs through these priorities and requirements.

Change: None.

Comment: One commenter recommended that the requirement concerning a Memorandum of Understanding between the authorized representatives for the State educational agency (SEA) and the State agency receiving the Governor's portion of SDFSCA State Grants program funds be streamlined. The commenter suggested that a letter from the SEA and State Agency indicating their agreement to conduct the activities proposed in the application, including the roles and responsibilities of each agency would assume, would be sufficient.

The commenter also expressed a concern that sufficient resources available under this grant program might not be provided to permit a State to meet all of the requirements of the absolute priority and recommended that States be allowed to focus on a subset of these requirements if available resources are not sufficient to fully address all of the grant goals.

Discussion: The requirement for a Memorandum of Understanding is not intended to impose a significant additional burden on applicants. Instead, the requirement is designed to ensure that necessary participants for the project participate in project development, agree upon their roles and responsibilities, and have the support of senior leadership for the project. We agree, however, that the approach suggested by the commenter may make development of an application simpler for some applicants.

In response to the commenter's second concern, language in the priority provides applicants with some flexibility in developing their projects. Specifically, the priority provides for the support of projects to “develop, enhance, or expand capacity”. Thus an applicant could focus on one, or more of these areas. Applicants should plan projects that reflect their existing efforts in the area and, while projects must address the six required sub-elements, the balance between the level of effort focused on required activities may be very different among successful applicants, depending on the previous investments made by an applicant.

Changes: In response to this comment, we have modified the requirement concerning a Memorandum of Understanding for this competition to permit applicants to submit a memorandum of understanding, letters, or other documentation that contains the required information. No change concerning the scope of the priority was made in response to this comment.

Comment: One commenter proposed that, in addition to requirements contained in the notice of proposed priority and requirements, applicants also be required to (1) list methods by which the applicant can address the issue of irregular reporting of UMIRS data collection; (2) document methods for assisting local educational agencies in standardizing the reporting of intervention data; (3) describe methods of reporting interventions for persistent student attendance and behavior problems, and methods used to address challenges for standardizing these data; (4) describe a plan for persuading local educational agencies about the value of high-quality truancy and intervention data for analysis; and (5) describe methods for motivating local educational agencies to make appropriate referrals for students at risk due to severe attendance or behavior problems. These proposed modifications would be consistent with the commenter's State laws and procedures concerning truancy and interventions designed to address truancy, and could potentially support that State's approach to this issue by providing needed funding.

Discussion: While the commenter's underlying concerns parallel many of the more general requirements that were included in the notice of proposed priority and requirements for the program (such as using data collected under the UMIRS system to assess need, selecting appropriate interventions, monitoring progress toward performance measures, and disseminating information about youth drug use and violence to the public), we do not have any basis to request that all applicants meet all of these requirements. Applicants, however, are free to include this information to support their applications.

The additional requirements recommended may support the existing statutory and regulatory framework in the commenter's State, but there is tremendous variation across the States in terms of how school attendance information is collected and used. In developing priorities and requirements for a grant competition that is designed to benefit all States, we believe that the more general approach that we have taken establishes appropriate core requirements that are still flexible enough to address needs in any of the States.

The commenter's concerns also focused heavily on a single aspect of the UMIRS requirements—truancy rates, and related interventions. While school attendance information is an important component of any statewide data collected to support the management of youth drug and violence prevention programs, focusing too heavily on this one aspect of the significantly more comprehensive system that is required would detract from the program's core goals.

Change: None.

Note: This notice does not solicit applications. In any year in which we choose to use one or more of these priorities or requirements, we invite applications through a notice in the Federal Register. When inviting applications, we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105)(c)(1)).

Priorities and Requirements

Absolute Priority—Developing, Enhancing, or Expanding the Capacity of States and Other Entities That Receive SDFSCA State Grants Funds To Collect, Analyze, and Use Data To Improve the Management of Drug and Violence Prevention Programs

This priority supports projects to develop, enhance, or expand the capacity of States and other entities that receive SDFSCA State Grants program funds to collect, analyze, and use data to improve the management of drug and violence prevention programs. At a minimum, applicants must propose projects to develop, enhance, or expand the capacity of the State educational agency (SEA), the State agency administering the Governor's funding under the SDFSCA State Grants program, and local educational agencies and community-based organizations that receive SDFSCA State Grants program funding.

Specifically, projects must be designed to:

(a) Include activities designed to expand the capacity of local recipients of SDFSCA funds to use data to assess needs, establish performance measures, select appropriate interventions, monitor progress toward established performance measures, and disseminate information about youth drug use and violence to the public;

(b) Collect data that, at a minimum, meet the requirements of the Uniform Management Information and Reporting System (UMIRS) described in section 4112(c)(3) of the ESEA;

(c) Operate with the aid of a technology-based system for analyzing and interpreting school crime and violence data;

(d) Be consistent with the State's Performance-Based Data Management Initiative (PBDMI) strategy and produce data that can be transmitted to the U.S. Department of Education via the Department's Education Data Exchange Network (EDEN) project, which facilitates the transfer of information from State administrative records to the Department to satisfy reporting requirements for certain programs administered by the Department, including the SDFSCA State Grants program;

(e) Be an enhancement to, or capable of merging data with, the State's student information system if such exists or if the State does not yet have a statewide, longitudinal student data system, the project should include the capacity to merge with such a system in the future; and

(f) Include validation and verification activities at the State and sub-State recipient levels designed to ensure the accuracy of data collected and reported.

Competitive Preference Priority—Use of Uniform Crime Reporting (UCR) Definitions

The collection of incident data for projects under the absolute priority will be done in a manner consistent with the definitions and protocols developed under the Federal Bureau of Investigation's UCR program.

Requirements

Eligibility of Applicants: Eligible applicants for this program are limited to State educational agencies (SEAs) or other State agencies administering the SDFSCA State Grants program.

Memorandum of Understanding or Other Documentation of Participation: Applicants must include documentation in the form of a memorandum of understanding or a letter in their application that outlines project roles and responsibilities of the participants and that contains:

1. The signatures of:

a. The authorized representative(s) for the SEA, and

b. The authorized representative(s) for the State agency (or agencies) receiving the Governor's portion of SDFSCA State Grants program funding for the State.

2. Evidence that the proposal has been reviewed by, and has the approval of, the State's chief information officer (CIO) and/or chief technology officer (CTO). The CIO and/or CTO may sign the required memorandum of understanding, or may provide a letter including the required assurance.

Technology-Based System: Each application is required to include a proposal for a technology-based system for collecting, analyzing, and interpreting school crime and violence data. Grant funds may be used in a variety of ways to support this system, including updating an existing infrastructure, conducting basic planning, and capacity building.

Executive Order 12866

This notice of final priorities and requirements has been reviewed in accordance with Executive Order 12866. Under the terms of the order, we have assessed the potential costs and benefits of this regulatory action.

The potential costs associated with the notice of final priorities and requirements are those resulting from statutory requirements and those we have determined as necessary for administering this program effectively and efficiently.

In assessing the potential costs and benefits—both quantitative and qualitative—of this notice of final priorities and requirements, we have determined that the benefits of the proposed priorities justify the costs.

We have also determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program. Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

You may also view this document in text or PDF at the following site: http://www.ed.gov/programs/dvpstatemanagement/applicant.html.

Note: The official version of this document is the document published in the Federal Register. Free Internet access to the official edition of the Federal Register and the Code of Federal Regulations is available on GPO Access at: http://www.gpoaccess.gov/nara/index.html

(Catalog of Federal Domestic Assistance Number 84.184R Grants to States to Improve Management of Drug and Violence Prevention Programs)

Program Authority: 20 U.S.C. 7131.

Dated: June 8, 2005.
Deborah A. Price,
Assistant Deputy Secretary for Safe and Drug-Free Schools.

[FR Doc. 05-11653 Filed 6-10-05; 8:45 am]

BILLING CODE 4000-01-U